DEPARTMENT OF ENERGY

Federal Energy Regulatory Commission

Combined Notice of Filings

Take notice that the Commission has received the following Natural Gas Pipeline Rate and Refund Report filings:

Filings Instituting Proceedings

Docket Numbers: RP22-1122-000.

Applicants: Leucrotta Exploration Inc., Coelacanth Energy Inc.

Description: Joint Petition for Temporary Limited Waiver of Capacity Release Regulations, et al. of Leucrotta Exploration Inc., et al.

Filed Date: 8/11/22.

Accession Number: 20220811-5156.

Comment Date: 5 p.m. ET 8/23/22.

Docket Numbers: RP22-1123-000.

Applicants: Florida Gas Transmission Company, LLC.

Description: § 4(d) Rate Filing: Update Electric Portion of GT&C Section 27 to be effective 9/12/2022.

Filed Date: 8/12/22.

Accession Number: 20220812-5033.

Comment Date: 5 p.m. ET 8/24/22.

Docket Numbers: RP22-1124-000.

Applicants: El Paso Natural Gas Company, L.L.C.

Description: § 4(d) Rate Filing: Negotiated Rate Agreement Update (Shell Aug 22) to be effective 8/15/2022.

Filed Date: 8/12/22.

Accession Number: 20220812-5057.

Comment Date: 5 p.m. ET 8/24/22.

Docket Numbers: RP22-1125-000.

Applicants: Enable Gas Transmission, LLC.

Description: Compliance filing: Baseline Tenth Revised Volume No. 1 to be effective 9/15/2022.

Filed Date: 8/15/22.

Accession Number: 20220815-5027.

Comment Date: 5 p.m. ET 8/29/22.

Docket Numbers: RP22-1126-000.

Applicants: Enable Gas Transmission, LLC.

Description: Compliance filing: Third Revised Volume Filed Agreements to be effective 9/15/2022.

Filed Date: 8/15/22.

Accession Number: 20220815-5028.

Comment Date: 5 p.m. ET 8/29/22.

Docket Numbers: RP22-1127-000.

Applicants: Enable Gas Transmission, LLC.

Description: Tariff Amendment: Cancellation of Ninth Revised Volume No. 1 Tariff to be effective 9/15/2022.

Filed Date: 8/15/22.

Accession Number: 20220815-5047.

Comment Date: 5 p.m. ET 8/29/22.

Docket Numbers: RP22-1128-000.

Applicants: El Paso Natural Gas Company, L.L.C.

Description: § 4(d) Rate Filing: Negotiated Rate Agreement Update (Koch) to be effective 8/16/2022.

Filed Date: 8/15/22.

Accession Number: 20220815-5153.

Comment Date: 5 p.m. ET 8/29/22.

Docket Numbers: RP22-1129-000.

Applicants: Gulfstream Natural Gas System, L.L.C.

Description: § 4(d) Rate Filing: August 2022 Clean-up Filing to be effective 9/16/2022.

Filed Date: 8/16/22.

Accession Number: 20220816-5015.

Comment Date: 5 p.m. ET 8/29/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2022.
Debbie-Anne A. Reese,
Deputy Secretary.

[FR Doc. 2022-18042 Filed 8-19-22; 8:45 am]

BILLING CODE 6717-01-P